DEPARTMENT OF TRANSPORTATION

[Docket No. DOT-MARAD 2014-0094]

Agency Requests for Renewal of a Previously Approved Information Collection(s): Application and Reporting Requirements for Participation in the Maritime Security Program

Correction

In notice document 2014-15756 appearing on page 38354 in the issue of Monday, July 7, 2014, make the following correction:

In the second column, under the DATES heading, in the second line “August 6, 2014” should read “September 5, 2014”.

[FR Doc. C1-2014-15756 Filed 7-21-14; 8:45 am]

BILLING CODE 1505-01-D